DEPARTMENT OF HEALTH AND HUMAN SERVICES

Administration for Children and Families

Expedited OMB Review and Public Comment; Screening Tool for Unaccompanied Alien Children Program Staff and Visitors (New Collection)

AGENCY: Office of Refugee Resettlement, Administration for Children and Families, Department of Health and Human Services.

ACTION: Request for public comment.

SUMMARY: The Office of Refugee Resettlement (ORR), Administration for Children and Families (ACF), U.S. Department of Health and Human Services (HHS), is requesting expedited review of an information collection request from the Office of Management and Budget (OMB) and inviting public comments on the proposed collection. The collection involves a risk questionnaire designed to identify potential coronavirus (COVID-19) among staff and visitors to Unaccompanied Alien Children (UAC) programs to ensure the life and safety of UAC in ORR care.

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description: ACF is requesting that OMB grant a 180-day approval for this request under procedures for expedited processing. A request for review under normal procedures will be submitted within 180 days of the approval for this request. Any edits resulting from public comment will be incorporated into the submission under normal procedures. The COVID-19 risk questionnaire asks participants whether or not they display COVID-19 symptoms, whether or not they have had close contact with individuals known to test positive for COVID-19, and whether or not they have travel history to areas of sustained transmission of COVID-19.

Respondents: Staff and visitors at UAC program sites across the country.

Annual Burden Estimates
Instrument | Total number of respondents | Annual responses per respondent | Average burden hours per response | Annual burden hours
UAC COVID-19 Risk Questionnaire | 15,000 | 260 | .033 | 128,700

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279(b)(1)(B); (E).

Mary B. Jones,
ACF/OPRE Certifying Officer.

[FR Doc. 2020-06244 Filed 3-23-20; 8:45 am]

BILLING CODE 4184-45-P